DEPARTMENT OF HEALTH AND HUMAN SERVICES

Centers for Medicare & Medicaid Services

[Document Identifier: CMS-R-305, CMS-643, CMS-359/360/R-55 and CMS-10277]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: External Quality Review Protocols; Use: The results of Medicare reviews, Medicare accreditation services, and Medicaid external quality reviews will be used by States in assessing the quality of care provided to Medicaid beneficiaries by managed care organizations and to provide information on the quality of care provided to the general public upon request. Form Number: CMS-R-305 (OMB#: 0938-0786); Frequency: Reporting—Yearly; Affected Public: State, Local or Tribal Governments; Number of Respondents: 40; Total Annual Responses: 40; Total Annual Hours: 520,000. (For policy questions regarding this collection contact Gary B. Jackson at 410-786-1218. For all other issues call 410-786-1326.)

2. Type of Information Collection Request: Extension of a currently approved collection; Title of Information Collection: Hospice Survey and Deficiencies Report; Use: In order to participate in the Medicare program, a hospice must meet certain Federal health and safety conditions of participation. This form is used by State surveyors to record data about a hospice's compliance with these conditions of participation in order to initiate the certification or recertification process. Form Number: CMS-643 (OMB#: 0938-0379); Frequency: Reporting—Yearly; Affected Public: State, Local or Tribal Governments; Number of Respondents: 3377; Total Annual Responses: 1130; Total Annual Hours: 1130. (For policy questions regarding this collection contact Kim Roche at 410-786-3524. For all other issues call 410-786-1326.)

3. Type of Information Collection Request: Extension of a currently approved collection; Title of Information Collection: Comprehensive Outpatient Rehabilitation Facility (CORF) Eligibility and Survey Forms and Information Collection Requirements at 42 CFR 485.54 through 485.66; Use: In order to participate in the Medicare program as a CORF, providers must meet Federal conditions of participation. The certification form is needed to determine if providers meet at least preliminary requirements. The survey form is used to record provider compliance with the individual conditions and report findings to CMS. Form Number: CMS-359/360/R-55 (OMB#: 0938-0267); Frequency: Reporting—Occasionally; Affected Public: Private Sector: Business or other for-profits; Number of Respondents: 476; Total Annual Responses: 60; Total Annual Hours: 223,285. (For policy questions regarding this collection contact Georgia Johnson at 410-786-6859. For all other issues call 410-786-1326.)

4. Type of Information Collection Request: New collection; Title of Information Collection: Hospice Conditions of Participation and Supporting Regulations in 42 CFR 418.52, 418.54, 418.56, 418.58, 418.60, 418.64, 418.66, 418.70, 418.72, 418.74, 418.76, 418.78, 418.100, 418.106, 4118.108, 418.110, 418.112, and 418.114; Use: The Conditions of Participation and accompanying requirements are used by Federal and State surveyors as a basis for determining whether a hospice qualifies for approval or re-approval under Medicare. The healthcare industry and CMS believe that the availability of the records and general content of records as specified in the Conditions of Participation final rule (72 FR 32088), is standard medical practice, and is necessary in order to ensure the well-being and safety of patients and professional treatment accountability. Form Number: CMS-10277 (OMB#: 0938-New); Frequency: Reporting and Recordkeeping—Yearly; Affected Public: Business or other for-profit and Not-for-profit institutions; Number of Respondents: 2,872; Total Annual Responses: 1,808,345; Total Annual Hours: 2,152,396. (For policy questions regarding this collection contact Danielle Shearer at 410-786-6617. For all other issues call 410-786-1326.)

To obtain copies of the supporting statement and any related forms for the proposed paperwork collections referenced above, access CMS' Web site at http://www.cms.hhs.gov/PaperworkReductionActof1995, or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by May 12, 2009:

1. Electronically. You may submit your comments electronically to http://www.regulations.gov. Follow the instructions for “Comment or Submission” or “More Search Options” to find the information collection document(s) accepting comments.

2. By Regular Mail. You may mail written comments to the following address: CMS, Office of Strategic Operations and Regulatory Affairs, Division of Regulations Development, Attention: Document Identifier/OMB Control Number __, Room C4-26-05, 7500 Security Boulevard, Baltimore, Maryland 21244-1850.

Dated: March 9, 2009.
Michelle Shortt,
Director, Regulations Development Group, Office of Strategic Operations and Regulatory Affairs.

[FR Doc. E9-5457 Filed 3-12-09; 8:45 am]

BILLING CODE 4120-01-P